DEPARTMENT OF TRANSPORTATION

Federal Aviation Administration

Proposed Changes to Advisory Circular 27-1B, Certification of Normal Category Rotorcraft, and Advisory Circular 29-2C, Certification of Transport Category Rotorcraft

AGENCY: Federal Aviation Administration (FAA), DOT.

ACTION: Notice of availability of proposed Advisory Circular (AC) changes and request for comments.

SUMMARY: This notice announces the availability of and requests comments on proposed revisions to AC 27-1B, Certification of Normal Category Rotorcraft, and AC 29-2C, Certification of Transport Category Rotorcraft. These proposed changes revise current AC paragraph MG 8, Substantiation of Composite Rotorcraft Structure. This notice is necessary to give all interested persons an opportunity to comment on the proposed AC change.

DATES: We must receive your comments by August 9, 2004.

ADDRESSES: Send all comments on the proposed AC changes to the Federal Aviation Administration, Attn: Richard Monschke, Rotorcraft Standards Staff, ASW-110, 2601 Meacham Boulevard, Fort Worth, TX 76193-0110; e-mail: Richard.A.Monschke@faa.gov, or fax (817) 222-5961. You may inspect comments at the above address between 7:30 a.m. and 4 p.m. weekdays, except Federal holidays.

FOR FURTHER INFORMATION CONTACT: Richard Monschke, telephone: (817) 222-5116; fax (817) 222-5961.

SUPPLEMENTARY INFORMATION:

Comments Invited

We invite all interested persons to comment on the proposed AC by submitting such written data, views, or arguments as they may desire. If you have comments, you should identify AC 27-1B and AC 29-2C, AC paragraph MG 8, and submit your comments, in duplicate, to the address specified above. We will consider all communications received by the closing date before issuing the final AC. You can get a copy of the proposed material by contacting the person named under the caption FOR FURTHER INFORMATION CONTACT or by downloading the proposed AC from the following Internet Web site: http://www.airweb.faa.gov/rgl.

Background

Although it was not an Aviation Rulemaking Advisory Committee (ARAC) working group, a harmonized working group developed these changes. Except for references, the text of the proposed material is the same in MG 8 for both AC 27-1B and AC 29-2C. When these AC changes are finalized, they will be posted on the Internet Web site as accepted, but will not be published at that time. They will be published in the next change to AC 27-1B and AC 29-2C.

Issued in Fort Worth, Texas, on June 30, 2004.
Mark Schilling,
Acting Manager, Rotorcraft Directorate, Aircraft Certification Service.

[FR Doc. 04-15644 Filed 7-8-04; 8:45 am]

BILLING CODE 4910-13-M